DEPARTMENT OF ENERGY

Federal Energy Regulatory Commission

Combined Notice of Filings #1

Take notice that the Commission received the following electric corporate filings:

Docket Numbers: EC16-157-000.

Applicants: Alcoa Power Generating Inc., Cube Yadkin Generation LLC, Cube Yadkin Transmission LLC.

Description: Joint Application for Authorization for Disposition and Consolidation of Jurisdictional Facilities and Acquisition of Existing Generation Facilities and Request for Expedited Action of Alcoa Power Generating Inc., et al.

Filed Date: 7/26/16.

Accession Number: 20160726-5036.

Comments Due: 5 p.m. ET 8/16/16.

Take notice that the Commission received the following electric rate filings:

Docket Numbers: ER10-1513-003.

Applicants: Wolverine Power Supply Cooperative, Inc.

Description: Notice of Change in Status and Request for Waiver of Wolverine Power Supply Cooperative, Inc.

Filed Date: 7/25/16.

Accession Number: 20160725-5244.

Comments Due: 5 p.m. ET 8/15/16.

Docket Numbers: ER14-2751-004.

Applicants: Xcel Energy Southwest Transmission Company, LLC.

Description: Compliance Filing of Xcel Energy Southwest Transmission Company, LLC.

Filed Date: 7/25/16.

Accession Number: 20160725-5235.

Comments Due: 5 p.m. ET 8/15/16.

Docket Numbers: ER14-2752-005.

Applicants: Xcel Energy Transmission Development Company, LLC.

Description: Compliance Filing of Xcel Energy Transmission Development Company, LLC.

Filed Date: 7/25/16.

Accession Number: 20160725-5234.

Comments Due: 5 p.m. ET 8/15/16.

Docket Numbers: ER16-1277-002; ER16-1293-002.

Applicants: White Pine Solar, LLC, White Oak Solar, LLC.

Description: Notice of Non-material Change in Status of White Pine Solar, LLC, et al.

Filed Date: 7/25/16.

Accession Number: 20160725-5245.

Comments Due: 5 p.m. ET 8/15/16.

Docket Numbers: ER16-1286-001.

Applicants: Southwest Power Pool, Inc.

Description: Tariff Amendment: Response to Letter Requesting Additional Information in ER16-1286 and ER16-1314 to be effective 5/29/2016.

Filed Date: 7/25/16.

Accession Number: 20160725-5202.

Comments Due: 5 p.m. ET 8/15/16.

Docket Numbers: ER16-1314-001.

Applicants: Southwest Power Pool, Inc.

Description: Tariff Amendment: Response to Letter Requesting Additional Information in ER16-1286 and ER16-1314 to be effective 3/1/2016.

Filed Date: 7/25/16.

Accession Number: 20160725-5203.

Comments Due: 5 p.m. ET 8/15/16.

Docket Numbers: ER16-2275-000.

Applicants: Kingman Wind Energy I, LLC.

Description: Baseline eTariff Filing: Kingman Wind Energy I, LLC Application for Market-Based Rates to be effective 10/1/2016.

Filed Date: 7/25/16.

Accession Number: 20160725-5197.

Comments Due: 5 p.m. ET 8/15/16.

Docket Numbers: ER16-2276-000.

Applicants: Kingman Wind Energy II, LLC.

Description: Baseline eTariff Filing: Kingman Wind Energy II, LLC Application for Market-Based Rates to be effective 10/1/2016.

Filed Date: 7/25/16.

Accession Number: 20160725-5198.

Comments Due: 5 p.m. ET 8/15/16.

Docket Numbers: ER16-2277-000.

Applicants: Solar Star California XLI, LLC.

Description: Initial rate filing: Market-Based Rate Tariff to be effective 8/1/2016.

Filed Date: 7/25/16.

Accession Number: 20160725-5201.

Comments Due: 5 p.m. ET 8/15/16.

Docket Numbers: ER16-2278-000.

Applicants: Cube Yadkin Generation LLC.

Description: Baseline eTariff Filing: MBR Application to be effective 9/25/2016.

Filed Date: 7/26/16.

Accession Number: 20160726-5001.

Comments Due: 5 p.m. ET 8/16/16.

Docket Numbers: ER16-2279-000.

Applicants: Southern California Edison Company.

Description: Tariff Cancellation: Notices of Cancellation to GIA and Distrib Service Agmt with Ganna Halvorsen to be effective 9/25/2016.

Filed Date: 7/26/16.

Accession Number: 20160726-5004.

Comments Due: 5 p.m. ET 8/16/16.

Docket Numbers: ER16-2280-000.

Applicants: Southern California Edison Company.

Description: Section 205(d) Rate Filing: First Amended LGIA Valentine Solar, LLC for Avalon Hybrid Project to be effective 7/27/2016.

Filed Date: 7/26/16.

Accession Number: 20160726-5005.

Comments Due: 5 p.m. ET 8/16/16.

Docket Numbers: ER16-2281-000.

Applicants: American Transmission Systems, Incorporated, PJM Interconnection, L.L.C.

Description: Section 205(d) Rate Filing: American Transmission Systems, Inc. Filing of Revised Service Agreement No. 4240 to be effective 9/15/2016.

Filed Date: 7/26/16.

Accession Number: 20160726-5052.

Comments Due: 5 p.m. ET 8/16/16.

Docket Numbers: ER16-2282-000.

Applicants: Northern Indiana Public Service Company.

Description: Section 205(d) Rate Filing: Supplement for Coonrod 69 kv Delivery Point to be effective 7/31/2016.

Filed Date: 7/25/16.

Accession Number: 20160725-5246.

Comments Due: 5 p.m. ET 8/15/16.

Docket Numbers: ER16-2283-000.

Applicants: Genbright LLC.

Description: Request for Limited Waiver of Genbright, LLC.

Filed Date: 7/26/16.

Accession Number: 20160726-5062.

Comments Due: 5 p.m. ET 8/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2016.
Nathaniel J. Davis, Sr.,
Deputy Secretary.

[FR Doc. 2016-18288 Filed 8-1-16; 8:45 am]

BILLING CODE 6717-01-P